DEPARTMENT OF TRANSPORTATION

Federal Aviation Administration

14 CFR Part 39

[Docket No. FAA-2005-21716; Directorate Identifier 2005-NM-080-AD]

RIN 2120-AA64

Airworthiness Directives; Boeing Model 767-200, -300, and -300F Series Airplanes

AGENCY: Federal Aviation Administration (FAA), Department of Transportation (DOT).

ACTION: Notice of proposed rulemaking (NPRM).

SUMMARY: The FAA proposes to adopt a new airworthiness directive (AD) for certain Boeing Model 767-200, -300, and -300F series airplanes. This proposed AD would require replacing the aileron control override quadrant with a modified unit. This proposed AD is prompted by a report of the seizing of the input override mechanism bearings of the lateral central control actuator on affected airplanes. We are proposing this AD to prevent corrosion of the input override mechanism bearings of the lateral central control actuator, which, in the event of a subsequent jam in the pilot's aileron control system, could result in failure of the aileron override system and consequent reduced lateral controllability of the airplane.

DATES: We must receive comments on this proposed AD by August 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, PO Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2005-21716; the directorate identifier for this docket is 2005-NM-080-AD.

FOR FURTHER INFORMATION CONTACT: Douglas Tsuji, Aerospace Engineer, Systems and Equipment Branch, ANM-130S, FAA, Seattle Aircraft Certification Office, 1601 Lind Avenue, SW., Renton, Washington 98055-4056; telephone (425) 917-6487; fax (425) 917-6590.

SUPPLEMENTARY INFORMATION:

Comments Invited

We invite you to submit any relevant written data, views, or arguments regarding this proposed AD. Send your comments to an address listed under ADDRESSES. Include “Docket No. FAA-2005-21716; Directorate Identifier 2005-NM-080-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

We have received a report of seized bearings in the input override mechanism of the lateral central control actuator on the affected airplanes. The seizing was discovered during an inspection, and it has been attributed to corrosion on the steel bearings in the override mechanism. A failed override system is a latent failure and does not affect normal operation. However, if the pilot's control system were to jam, seized override bearings could keep the aileron control override system from operating properly. This condition, if not corrected, could result in reduced lateral control of the airplane.

Other Relevant Rulemaking

We have previously issued AD 2003-15-03, amendment 39-13245 (68 FR 44197, July 28, 2003), applicable to Boeing Model 767-200, -300, and -300F series airplanes, line numbers (L/Ns) 1 through 836 inclusive. That AD requires replacement of the aileron control override quadrant with a modified unit. That AD prevents corrosion of the input override mechanism bearings of the lateral central control actuator, which, in the event of a subsequent jam in the pilot's aileron control system, could result in the failure of the aileron override system and consequent reduced lateral controllability of the airplane.

Since we issued that AD, we have determined that the same unsafe condition addressed in that AD may exist on certain additional Boeing Model 767-200, -300, and -300F series airplanes. We were advised that L/Ns 837 through 918 were omitted inadvertently from the applicability of AD 2003-15-03 because those airplanes had been excluded inadvertently from the effectivity of Section I.A. of Boeing Alert Service Bulletin 767-27A0175, dated October 25, 2001, which was cited as the appropriate source of service information for the actions in AD 2003-15-03. Therefore, these additional airplanes are also subject to the same unsafe condition addressed in AD 2003-15-03.

Relevant Service Information

We have reviewed Boeing Service Bulletin 767-27A0175, Revision 2, dated August 5, 2004. The procedures in Revision 2 of this service bulletin are essentially the same as the procedures in the original issue of Boeing Alert Service Bulletin 767-27A0175, dated October 25, 2001. These service bulletins describe procedures for replacing the aileron control override quadrant with a modified unit. The modification involves replacing the existing steel bearings with corrosion-resistant steel bearings. Revision 2 includes an additional procedure for inspecting the cam follower bearing, and replacing it with a CRES bearing if necessary. Revision 2 also increases the applicability of the service bulletin. Accomplishment of the actions specified in Boeing Service Bulletin 767-27A0175, Revision 2, dated August 5, 2004 is intended to adequately address the identified unsafe condition.

FAA's Determination and Requirements of the Proposed AD

We have evaluated all pertinent information and identified an unsafe condition that is likely to exist or develop on other airplanes of this same type design. Therefore, we are proposing this AD, which would require accomplishing the actions specified in Revision 2 of the service bulletin described previously, except as discussed under “Difference Between the Proposed AD and Revision 2 of the Service Bulletin.”

Since this proposed AD would expand the applicability of AD 2003-15-03, we have considered a number of factors in determining whether to issue a new AD or to supersede the “old” AD. We have considered the entire fleet size that would be affected by superseding AD 2003-15-03 and the consequent workload associated with revising maintenance record entries. In light of this, we have determined that a less burdensome approach is to issue a separate AD applicable only to the additional airplanes. This proposed AD would not supersede AD 2003-15-03; airplanes listed in the applicability of AD 2003-15-03 are required to continue to comply with the requirements of that AD. This proposed AD is a separate AD action, and is applicable only to Boeing Model 767-200, -300, and -300F series airplanes, L/N/s 837 through 918 inclusive; certificated in any category.

Difference Between the Proposed AD and Revision 2 of the Service Bulletin

Although Boeing Service Bulletin 767-27A0175, Revision 2, dated August 5, 2004, includes procedures for inspecting the cam follower bearing, and replacing it with a CRES bearing if necessary, this proposed AD would not include that action. Failure of the cam follower bearing would not prevent the operation of the aileron override mechanism and, therefore, does not pose a safety issue. Although a failed cam follower bearing would not rotate, the bearing would still be able to slide against the cam.

Costs of Compliance

There are about 127 airplanes of the affected design in the worldwide fleet. This proposed AD would affect about 45 airplanes of U.S. registry. The proposed actions would take about 10 work hours per airplane, at an average labor rate of $65 per work hour. Required parts would cost about $146 per airplane. Based on these figures, the estimated cost of the proposed AD for U.S. operators is $35,820, or $796 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-21716; Directorate Identifier 2005-NM-080—AD.

Comments Due Date

(a) The Federal Aviation Administration (FAA) must receive comments on this AD action by August 22, 2005.

Affected ADs

(b) This AD is related to AD 2003-15-03, amendment 39-13245 (68 FR 44197, July 28, 2003). AD 2003-15-03 is applicable to Boeing Model 767-200, -300, and -300F series airplanes, certificated in any category, line numbers (L/Ns) 1 through 836 inclusive.

Applicability

(c) This AD applies to Boeing Model 767-200, -300, and —300F series airplanes, certificated in any category, L/Ns 837 through 918 inclusive.

Unsafe Condition

(d) This AD was prompted by a report of the seizing of the input override mechanism bearings of the lateral central control actuator on affected airplanes. We are issuing this AD to prevent corrosion of the input override mechanism bearings of the lateral central control actuator, which, in the event of a subsequent jam in the pilot's aileron control system, could result in failure of the aileron override system and consequent reduced lateral controllability of the airplane.

Compliance

(e) You are responsible for having the actions required by this AD performed within the compliance times specified, unless the actions have already been done.

Replacement

(f) Within 18 months after the effective date of this AD, replace the aileron control override quadrant with a modified unit, in accordance with the Accomplishment Instructions of Boeing Service Bulletin 767-27A0175, Revision 2, dated August 5, 2004.

Note 1: This AD does not require accomplishing the actions specified by Step 5 of Figure 2 of Boeing Service Bulletin 767-27-A0175, Revision 2.

Part Installation

(g) As of the effective date of this AD, no person may install, on any airplane, an aileron control quadrant override assembly that has not been modified in accordance with the requirements of this AD.

Alternative Methods of Compliance (AMOCs)

(h) The Manager, Seattle Aircraft Certification Office (ACO), FAA, has the authority to approve AMOCs for this AD, if requested in accordance with the procedures found in 14 CFR 39.19.

Issued in Renton, Washington, on June 27, 2005.
Kevin M. Mullin,
Acting Manager, Transport Airplane Directorate, Aircraft Certification Service.

[FR Doc. 05-13225 Filed 7-5-05; 8:45 am]

BILLING CODE 4910-13-P